DEPARTMENT OF HEALTH AND HUMAN SERVICES

Request for Grant Applications for a Demonstration Project for the Medical Reserve Corps, Citizens Corps, USA Freedom Corps

AGENCY: Department of Health and Human Services, Office of the Secretary, Office of Public Health and Science, Office of the Surgeon General.

ACTION: Notice.

SUMMARY: To provide funding for a demonstration project to demonstrate approaches to establishment of community-based, citizen volunteer Medical Reserve Corps units. Small grants will provide funding to community-based organizations, under the terms of cooperative agreements. The small grants will facilitate start-up of Medical Reserve Corps units and provide information to the Federal Government that will provide insights into best practices in such areas as: (1) Structure and organization, (2) recruitment and verification of credentials, (3) community-level partnership building, (4) competency levels for effective action, (5) training, (6) risk assessment, and (7) strategy development and planning.

Authority: This program is authorized by Section 301 of the Public Health Service Act, as amended, 42 U.S.C.; and, funded under Pub. L. 107-116, Title II, January 10, 2002.

The community-based, volunteer Medical Reserve Corps units are intended to supplement existing community emergency medical response systems as well as contribute to meeting the public health needs of the community throughout the year. They are not intended to replace or substitute for local, existing emergency response systems. The Medical Reserve Corps should help provide surge capacity during the initial hours following an emergency before assistance from other geographic localities may arrive.

The Medical Reserve Corps will provide an organized framework which will attract volunteers and provide them with skills needed to work effectively in emergency situations. It will help to ensure that the volunteers from Medical Reserve Corps units are deployed locally in a manner that is fully planned and coordinated with broader emergency response plans of the communities in which they are located. Moreover, the Medical Reserve Corps will serve as a mechanism for helping to ensure that volunteers have appropriate credentials for assignments which they will undertake when the Medical Reserve Corps is activated. The Medical Reserve Corps will help facilitate not only coordinated action but provide a greater predictability in volunteer resource capability when and where such services are needed.

The establishment of community-based volunteer Medical Reserve Corps units throughout the Nation will help meet the goal of enabling communities in the United States to be better prepared to respond to emergencies and urgent public health needs. It is anticipated that these community-based Medical Reserve Corps units will grow in number and in quality across the country.

The Medical Reserve Corps demonstration project grants programs will be supported through the cooperative agreement mechanism. This will enable a collaborative relationship between the grantee, the local Medical Reserve Corps unit and the Department of Health and Human Services' (HHS) Office of the Surgeon General. The Office of the Surgeon General will coordinate, through a private-sector contractor(s), technical assistance needed for the implementation, conduct, and assessment of program activities. The Office of the Surgeon General will provide necessary oversight of the program.

Specifically, the Federal Government plans to support the development of Medical Reserve Corps units by:

1. Developing and disseminating a guide, entitled Medical Reserve Corps—A Guide for Local Officials, for communities that are planning to develop a Medical Reserve Corps unit;

2. Establishing and maintaining a website where Medical Reserve Corps core documents (e.g., Medical Reserve Corps—A Guide for Local Officials), training information, and a newsletter will be readily accessible;

3. Producing a monthly Medical Reserve Corps newsletter which will inform Medical Reserve Corps units and others of progress nationally on this initiative, best practices, shared experiences of Medical Reserve Corps units, and meeting notices;

4. Providing, through one or more government contractors, short-term technical assistance to successful applicants and/or Medical Reserve Corps units. Such technical assistance could include, for example, assistance with assessing training needs, development of training plans, assistance with planning and implementing drills (tabletop and/or field), development of supply and equipment acquisition plans, and development of operational plans;

5. Convening at least one meeting, in each of the HHS' ten regions in which Medical Reserve Corps unit officials may participate in-person or via appropriate and available communication systems; and,

6. Recommending evaluation approaches to Medical Reserve Corps units.

Background

During his January 2002 State of the Union address, President Bush called on all Americans to dedicate at least two years—the equivalent of 4,000 hours of their time—to provide volunteer service to others. To help every American answer the call to service, he created the USA Freedom Corps, and charged it with strengthening and expanding service opportunities for them to protect our homeland, to support our communities, and to extend American compassion around the World. The USA Freedom Corps in a coordinating council, similar to the National Economic Council or National Security Council, that relies upon the Federal agencies and departments that are a part of the coordinating council to carry out policies and programs.

At the same time that he formed the USA Freedom Corps, the President created the Citizen Corps initiative to offer Americans new opportunities to get involved in their communities through emergency preparation and response activities. The Citizen Corps initiative includes several new and existing programs that share the common goal of helping communities prevent, prepare for, and respond to crime, natural disasters and other emergencies. The programs include: Community Emergency Response Teams, under the direction of the Federal Emergency Management Agency; Neighborhood Watch, Volunteers in Police Service, and Operation TIPS, under the direction of the Department of Justice (DOJ); and, the Medical Reserve Corps, under the broad guidance and support of the Department of Health and Human Services.

At the local level, these Citizen Corps programs will be coordinated by Citizen Corps Councils supported by FEMA.

DATES: To be considered for review, applications must be received by August 23, 2002. Applications that do not meet the deadline will be considered late and will be returned to the applicant.

ADDRESSES: Applications must be prepared using Form PHS 5161-1 (revised July 2000). This form is available in Adobe Acrobat format at the following Web site: http://www.cdc.gov/od/pgo/orminfo/htm. Form PHS 5161-1 (revised July 2000) includes U.S. Government Standard Form (SF) 424, the required face page for grant applications submitted for Federal assistance and SF 424 A, a budget format for non-construction projects.

Complete applications should be submitted to: Ms. Karen Campbell, Grants Management Officer, Division of Management Operations, Office of Minority Health, Office of Public Health and Science, Rockwall II Building, Suite 1000, 5515 Security Lane, Rockville, MD 20852. Ms. Campbell can be reached by, telephone at: (301) 594-0758.

FOR FURTHER INFORMATION CONTACT: Questions regarding programmatic information related to preparation of grant applications should be directed in writing to Ms. Linda Vogel, Senior Public Health Advisor, Office of the Surgeon General, Office of Public Health and Science, U.S. Department of Health and Human Services, Room 18-66, 5600 Fishers Lane, Rockville, MD 20857, e-mail: lvogel@osophs.dhhs.gov.

Information on budget and business aspects of the application may be obtained from Ms. Karen Campbell, Grants Management Officer, Division of Management Operations, Office of Minority Health, Office of Public Health and Science, Rockwall II Building, Suite 1000, 5515 Security Lane, Rockville, MD 20852, telephone: (301) 594-0758.

SUPPLEMENTARY INFORMATION:

Availability of Funds

The Office of the Surgeon General anticipates making up to 100 awards in fiscal year 2002. Awards of amounts up to $50,000 (for direct and indirect costs) for up to a three-year period will be made. The actual number and dollar amount of the awards will depend on the number of approved applications received.

Matching Requirements

The applicant is not required to match or share project costs, if an award is made.

Period of Support

The start date for the cooperative agreement will be September 30, 2002. Support may be requested for a project period not to exceed three years. Grantees will be eligible for awards up to $50,000 (total amount) per year. Noncompeting continuation awards of up to $50,000 will be made in fiscal years 2003 and 2004, subject to satisfactory performance and the availability of funds.

Eligible Applicants

The Medical Reserve Corps small grants program applicant must be a public or private nonprofit community-based organization. Applicants may be an entity of the local government or a local nonprofit (501C.3 status), non-government organization. If a local Citizen Corps Council has 501C.3 status, the Citizen Corps Council can be the applicant.

Faith-based organizations that meet the definition of a private nonprofit community-based organization are eligible to apply for these Medical Reserve Corps small grants. Tribes, tribal organizations, and local affiliates of national, state-wide, or regional organizations that meet the definition of a private nonprofit, community-based organizations are eligible to apply.

To ensure wide geographic distribution of local Medical Reserve Corps units, applications will be accepted from organizations in all of the American States and Territories.

Only one grant will be awarded per community. If more than one application is received for the same community, the Office of the Surgeon General will contact local officials to make a determination of which application should be given priority. For communities where more than one group/organization is planning/developing a local citizen volunteer Medical Reserve Corps unit, it is recommended that these groups work together to submit one application.

Program Goals

The goals of the Medical Reserve Corps demonstration grants program are to:

1. Demonstrate whether medical response capacity in communities can be strengthened through the establishment of Medical Reserve Corps units consisting of citizen volunteers who represent a broad range of medical/health professions;

2. Demonstrate whether “surge” capacity can be created at the community level to deal with emergency situations which have significant consequences for the health of the population;

3. Demonstrate whether the Medical Reserve Corps does enable current and/or retired health professionals and related support personnel in communities to obtain additional training needed to work effectively and safely during emergency situations;

4. Demonstrate whether the Medical Reserve Corps approach does provide an effective organizational framework, with a command and control system, within which appropriately trained and credentialed citizen volunteers can put their skills in health and medicine to use effectively (including prearranged assignments) when there is an emergency;

5. Demonstrate whether the Medical Corps approach facilitates coordination of local citizen volunteer services in health/medicine with other response programs of the community/county/state during an emergency; and

6. Demonstrate whether the Medical Reserve Corps approach does provide cadres of health professionals, from within their home communities, who contribute to the resolution of public health problems and needs throughout the year.

Project Requirements

Medical Reserve Corps units should: (1) Be established and operate within the overall community plans for emergency preparedness and response and for public health improvement; (2) be comprised of citizen volunteers from within the community, including the immediate surrounding area; (3) have an organizational framework with a command and control system and have operational policies and procedures; (4) have a plan of action that is consistent with the risks and vulnerabilities of the community; (5) be fully coordinated and appropriately integrated into the existing emergency planning and response programs of the community; (6) develop strategies for activation of the local Medical Reserve corps unit(s), training of Medical Reserve Corps members to achieve needed competency standards, building working relationships/partnerships within the community, communications and logistics during emergencies, and practicing/drilling before emergencies occur; and (7) develop plans for additional functions, beyond emergency response, to promote public health in the community.

Application Requirements

In addition to the eligibility criteria cited above and use of the form PHS 5161-1 (revised July 2000) and found at: http://www.cdc.gov/od/pgo/forminfo/htm, successful candidates will address the following criteria in the narrative of their applications and provide the noted documentation:

• Documentation that the applicant is a unit of local government or community-based, nonprofit organization;

• Draft action plan, including initial measurable milestones, for establishment of a citizen volunteer Medical Reserve Corps unit, including goals, objectives, and time lines;

• Documentation of the existence of a planning body for the Medical Reserve Corps, including the name of the chair or lead organization, and the principals of the organizations;

• Specification of any arrangements or agreements with other local public or private organizations [e.g., Citizen Corps Council, Mayor's office, city Council, County Commission, County Chief Executive, Fire Department, Department of Health, Chief of Emergency Response for the Community, community hospital(s), Red Cross, local medical society and/or other health professions organizations, local-based government hospitals (VA, Indian Health Service), Rotary, Lions and Kiwanis Clubs] for the purposes of planning, establishing, and utilization of a local Medical Reserve Corps unit(s);

• Demonstration of linkages and/or understanding of existing emergency medical response entities in the community (e.g., minutes of a planning meeting in which there was substantive involvement of other key community stakeholders, including NGOs);

• Demonstration of a linkage with local government health and emergency response authorities;

• A proposed budget which is consistent with the approved types of expenditures set forth below;

• Other letter(s) of support are optional.

Use of Grant Funds

Applicants may request funds for the following types of allowable expenses, subject to Federal Government regulations regarding non-allowable expenses in Federal assistance programs:

1. Organizing a Medical Reserve Corps, including establishment of a leadership and management structure;

2. Implementation of mechanisms to assure appropriate integration and coordination with existing local emergency response and health assets and capabilities;

3. Recruiting volunteers for the Medical Reserve corps;

4. Assessing the community's risks and vulnerabilities;

5. Development of plans to develop, organize and mobilize the Medical Reserve Corps in response not only to urgent needs but also to address other public health needs in the community;

6. Training for leadership and preparedness; and

7. Training in specific skills.

Review of Applications

Applications will be screened upon receipt. Those that are judged to be incomplete or arrive after the deadline will be returned without review or comment. Applications will be reviewed for conformity with the applicant eligibility criteria. HHS will contact in writing all applicants which do comply with the applicant eligibility criteria to advise them of this finding. Accepted applications will be reviewed for technical merit in accordance with HHS policies.

Applications will be evaluated by a technical review panel composed of experts in the fields of emergency medical response, medicine, public health, program management, community service delivery, and community leadership development. Consideration for award will be given to applicants that best demonstrate progress toward establishment of a local citizen volunteer Medical Reserve Corps unit. Additionally, applications that best demonstrate the development of plausible strategies, including a time line, for organizing, recruitment for, and making operational a citizen volunteer Medical Reserve corps unit that is linked to other community-based programs and players for emergency response will rank more highly than those applications which do not. Applicants which have a linkage or plan a linkage with the community's Citizen Corps Council (if one has been established) should address that point, as applicable and appropriate.

Organization of Application

Applicants are required to submit an original ink-signed and dated application and two (2) photocopies. All pages must be numbered clearly and sequentially beginning with the Project Profile. The application must be typed double-spaced on one side of plain 8½″x11″ white paper, using at least a 12 point font, and contain 1″ margins all around.

The Project Summary and Project Narrative must not exceed a total of ten double-spaced pages, excluding any appendices. The original and each copy must be stapled and/or otherwise securely bound. An outline for the minimum information to be included in the “Project Narrative” section and related appendices is presented below.

I. Background (location, responsible organization/body, linkages within community)

II. Objectives

III. Summary of existing relevant community resources

IV. Strategy/plans with time line (can be in sequenced, bullet form)

V. Key project staff and current structure

VI. Evaluation—how progress will be measured

VII. Statement of willingness to contribute written information on local Medical Reserve Corps unit experiences, particularly what has worked well and lessons learned, to the Office of the Surgeon General for sharing with other communities establishing Medical Reserve Corps

VIII. Statement of willingness to discuss with the designed Office of the Surgeon General Medical Reserve Corps project staff the types technical assistance which the Medical Reserve Corps organizers believe they may need, with a view toward possible utilization of the Office of the Surgeon General technical assistance contract which was awarded for this purpose.

Application Review Criteria

The technical review of applications will consider the following factors:

Factor 1: Implementation Plan—45%

This section should discuss:

1. Brief summary of existing community resources and linkages to deliver coordinated emergency medical response services in a large scale (for the locality) emergency.

2. The role the Medical Reserve Corps will most likely play in relationship to existing services, including local health department, fire department, community hospital(s), Red Cross and other NGO's; and, if an officially recognized Citizen Corps Council has been established in the community, the nature of any linkage to the Citizen Corps Council.

3. The proposed plan and time line for establishment of a Medical Reserve Corps, ranging from established of a planning/steering group, organizational meetings, goals and objectives, development of organizational structure, policies and procedures, recruitment, liaison and partnership building, training, etc.

Although components of a Medical Reserve Corps do not necessarily have to be in place at the time the application is submitted, the applicant must discuss/describe the resources available to support these components and plans for phasing in the components of the action plan and the relationship of the plans to existing programs/institutions in the community/county/area.

Factor 2: Management Plan—20%

Applicant organization's capability to manage the project as determined by the availability and qualifications of the proposed staff (may be either volunteer or hired).

Applicant organization's listing of partners in the establishment and utilization of the citizen volunteer Medical Reserve Corps and their relationships and the mechanism(s) that will be utilized to convene the partners for constructive planning and implementation.

Factor 3: Evaluation Plan—10%

A clear but brief statement of program goals and how progress toward meeting those goals will be assessed.

A clear statement that the grant recipient is willing to contribute information on the progress, lessons learned, best practices, etc. to the Office of the Surgeon General at 6-month intervals.

Factor 4: Supporting Documentation—10%

Adequacy of supporting documentation that the Medical Reserve Corps planning group is appropriately connected to local government entities (e.g., Mayor's office, City Council, County Executive, County Council, Fire Department, Department of Emergency Planning and Response) and appropriate local organizations such as the Citizen Corps Council (if one has been officially established), American Red Cross, civic organizations (e.g., Kiwanis, Rotary, Siroptomist, Lions, Clubs); veterans organizations, health professions organizations, and faith-based groups, etc.

Factor 5: Background—10%

Adequacy of demonstrated knowledge of emergency medical response/care systems, and utilization of volunteers.

Factor 6: Technical Assistance—5%

A clear statement that the applicant, if awarded a grant, would communicate reasonable technical assistance needs, including justification, to the project focal point in the Office of the Surgeon General for possible fulfillment through one of the Office of the Surgeon General's technical assistance contracts.

This information will enable the Office of the Surgeon General to develop an understanding of the technical assistance most needed by communities in developing their Medical Reserve Corps unit(s).

Award Criteria

Funding decisions will be made by the Office of the Surgeon General and will be based on the recommendations adn ratings of the technical review panel.

Reporting and Other Requirements

General Reporting Requirements

A successful applicant under this notice will submit: (1) Progress reprots; (2) an annual Financial Status Report; and (3) a final progress report and Financial Status Report in the format established by the Office of the Surgeon General, in accordance with provisions of the general regulations which apply under 45 CFR part 74.51-74.52, with the exception of State and local governments to which CFR part 92, subpart C reporting requirements apply.

The Office of the Surgeon General has established the following requirements for inclusion in the annual and/or final report(s):

• A summary of the status of development of the Medical Reserve Corps (not to exceed 5 pages in the main report), including the major activities and accomplishments, objectives met and not met, and lessons learned;

• Copy of organizational chart and brief narrative description of the structure of the Medical Reserve Corps, including its line-of-command;

• Copy of policies and procedures (e.g. scope of operations, criteria for mobilization and demobilization) for the local Medical Reserve Corps;

• Copy of risk/vulnerability assessment (a copy of such an assessment prepared by other entities in the community and to which the Medical Reserve Corps is linked may be submitted);

• Resource availability and needs assessment; and

• Copy of database of appropriately credentialed volunteers who are committed to participate as members of the Medical Reserve Corps.

Public Health System Reporting Requirements

This program is subject to the Public Health Systems Reporting Requirements. Under these requirements, a community-based non-governmental applicant must prepare and submit a Public Health System Impact Statement (PHSIS). The PHSIS is intended to provide information to State and local health officials to keep them apprized on proposed health services grant applications submitted by community-based non-governmental organizations within their jurisdictions.

Community-based non-governmental applicants are required to submit, no later than the Federal due date for receipt of the application, the following information to the head of the appropriate State and local health agencies in the area(s) to be impacted: (a) A copy of the face page of the application (SF 424); and (b) a summary of the project (PHSIS), not to exceed one page, which provides: (1) A description of the population to be served; (2) a summary of the services to be provided; and (3) a description of the coordination planned with State or local health agencies. Copies of the letters forwarding the PHSIS to these authorities must be contained in the application materials submitted to the Office of the Surgeon General.

State Reviews

This program is subject to the requirements of Executive Order 12372 which allows States the option of setting up a system for reviewing applications from within their States for assistance under certain Federal programs. The application kit available under this notice will contain a list of States which have chosen to set up a review system and will include a State Single Point of Contact (SPOC) in the State for review. Applications (other than federally recognized Indian tribes) should contact their SPOCs as early as possible to alert them to the prospective applications and receive any necessary instructions on the State process. For proposed projects serving more than one State, the applicant is advised to contact the SPOC of each affected State. The due date for State process recommendations is 60 days after the application deadline established by the OMH Grants Management Officer.

The Office of the Surgeon General does not guarantee that it will accommodate or explain its responses to State process recommendations received after that date. (See “Intergovernmental Review of Federal Programs” Executive Order 12372 and 45 CFR part 100 for a description of the review process and requirements).

Provision of Smoke-Free Workplaces and Non-Use of Tobacco Products by Recipients of PHS Grants

HHS strongly encourages all grant recipients to provide a smoke-free workplace and to promote the non-use of all tobacco products. In addition, Public Law 103-227, the Pro-Children Act of 1994, prohibits smoking in certain facilities (or in some cases, any portion of a facility) in which regular or routine education, library, day care, health care, or early childhood development services are provided to children.

Definitions

For the purposes of this small-grant program, the following definitions are provided:

Citizen Corps Council: A Citizen Corps Council established at the community or county level within the overall frame work of the Citizen Corps, USA Freedom Corps. The Citizen Corps Council structure falls within the overall purview of FEMA.

Community-based: The focus of control and decision making powers are located at the community level, representing the service area of the community or a significant segment of the community.

County-based: The focus of control and decision making powers, insofar as the scope of this program is concerned, are located at the county level, representing the service area of the county or a significant segment of the county.

Non-governmental organization (NGO): A nonprofit, non-governmental organization having 501(c)(3) status.

Office of Minority Health (OMH): The Office of Minority Health, Office of Public Health and Science, Office of the Secretary, Department of Health and Human Services, which is serving as the great management organization for this announcement.

Dated: July 17, 2002.
Kenneth P. Moritsugu,
RADM, Acting Surgeon General, Public Health Service.

[FR Doc. 02-18375 Filed 7-18-02; 8:45 am]

BILLING CODE 4150-28-M